DEPARTMENT OF THE INTERIOR

Bureau of Land Management

[UT-030-06-1610—PH-241A]

Notice of Resource Advisory Committee Meeting Cancellation

AGENCY: Grand Staircase-Escalante National Monument (GSENM), Bureau of Land Management (BLM), Department of the Interior.

ACTION: Notice of Cancellation of Grand Staircase-Escalante National Monument Advisory Committee (GSENMAC) Meeting.

SUMMARY: The Grand Staircase-Escalante National Monument Advisory Committee (GSENMAC) meeting scheduled for November 15 and 16, 2005 is cancelled.

DATES: Two days of meetings were scheduled for November 15 and 16, 2005, at the GSENM Visitor Center, Conference Room, 745 HWY 89 East, Kanab, Utah.

FOR FURTHER INFORMATION CONTACT: Larry Crutchfield, Public Affairs Officer, GSENM Headquarters Office, 190 East Center, Kanab, Utah 84741; phone (435) 644-4310, or email larry_crutchfield@blm.gov.

SUPPLEMENTARY INFORMATION: In accordance with the Federal Land Policy and Management Act (FLPMA) and the Federal Advisory Committee Act of 1972 (FACA), the U.S. Department of the Interior, Bureau of Land Management (BLM), the GSENMAC was scheduled to meet on November 15 and 16, 2005, in Kanab, Utah, at the GSENM Visitor Center, 745 HWY 89 East, Kanab, Utah. The meeting has been cancelled and will be rescheduled at a later date.

Dated: November 10, 2005.
Dave Hunsaker,
Monument Manager, Grand Staircase-Escalante National Monument.

[FR Doc. 05-22787 Filed 11-16-05; 8:45 am]

BILLING CODE 4310-DQ-P